DEPARTMENT OF AGRICULTURE

Submission for OMB Review; Comment Request

December 16, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Regulations, Part 275—Quality Control.

OMB Control Number: 0584-0303.

Summary of Collection: Section 16 of the Food and Nutrition Act of 2008 (the Act), provides the legislative basis for the operation of the Supplemental Nutrition Assistance Program (SNAP) Quality Control (QC) system. The Food and Nutrition Service (FNS), as administrator of the SNAP, requires each State agency to develop a sampling plan that demonstrates the integrity of its case selection procedures. The QC system is designed to measure each State agency's payment error rate based on a statistically valid sample of SNAP cases. The QC system contains procedures for resolving differences in review findings between State agencies and FNS (arbitration process). The QC system also contains procedures that provide relief for State agencies when a State agency can demonstrate that a part or all of an excessive error rate was due to an unusual event that had an uncontrollable impact on the State agency's payment error rate (good cause process). Additionally, State agencies are required to maintain case records for three years to ensure compliance with provisions of the Food and Nutrition Act of 2008.

Need and Use of the Information: The quality control information collection is necessary to meet the requirements of Section 16 of the Act, which requires USDA to establish a system that enhances payment accuracy and improves administration by determining payment error rates, liabilities and performance bonuses.

Description of Respondents: State, Local, or Tribal Government; Federal Government.

Number of Respondents: 53.

Frequency of Responses: Recordkeeping; Reporting: On occasion; Annually.

Total Burden Hours: 1,379.

Ruth Brown,
Departmental Information Collection Clearance Officer.

[FR Doc. 2013-30289 Filed 12-19-13; 8:45 am]

BILLING CODE 3410-30-P